DEPARTMENT OF EDUCATION

National Research Center for Career and Technical Education and National Dissemination Center for Career and Technical Education

AGENCY: Office of Vocational and Adult Education, Department of Education.

ACTION: Notice of proposed extension of project period and waivers.

SUMMARY: We propose to waive the requirements in 34 CFR 75.261(c)(2) and 75.250 as they apply to the projects funded in Fiscal Year (FY) 1999 under the National Research Centers authority of section 114(c)(5) and (6)(A) of the Carl D. Perkins Vocational and Technical Education Act of 1998 (the Perkins Act). We propose these waivers in order to be able to extend the project periods for the two current grants awarded under the FY 1999 National Research Centers (National Center or Centers) competition.

The waivers as proposed would mean that: (1) Current grants may be continued at least through 2005 (and possibly for subsequent years, depending on the availability of appropriations for the National Centers in those years under the current statutory authority for the National Centers), instead of ending in 2004, and (2) we would not announce a new competition or make new awards in 2004.

We are requesting public comments on the proposed extension of project period and waivers.

DATES: We must receive your comments on or before May 27, 2004.

ADDRESSES: Address all comments about this proposed extension of project period and waivers to Ricardo Hernandez, U.S. Department of Education, Office of Vocational and Adult Education, 400 Maryland Avenue, SW., room 11138, Potomac Center Plaza, Washington, DC 20202-7120 or Nancy L. Raynor, U.S. Department of Education, Office of Vocational and Adult Education, 400 Maryland Avenue, SW., room 11040, Potomac Center Plaza, Washington, DC 20202-7241. If you prefer to send your comments through the Internet, use either one of the following addresses:

Ricardo.Hernandez@ed.gov or

Nancy.Raynor@ed.gov

FOR FURTHER INFORMATION CONTACT: Ricardo Hernandez or Nancy Raynor. Telephone (202) 245-7818 or (202) 245-7740, respectively.

If you use a telecommunications device for the deaf (TDD), you may call the Federal Information Relay Service (FIRS) at 1-800-877-8339.

Individuals with disabilities may obtain this notice of proposed extension of project period and waivers in an alternative format (e.g., Braille, large print, audiotape, or computer diskette) on request to the contact persons listed under FOR FURTHER INFORMATION CONTACT.

SUPPLEMENTARY INFORMATION:

Invitation To Comment

We invite you to submit comments regarding this proposed extension of project period and these proposed waivers. We are particularly interested in receiving comments on the potential impact the extension and waivers may have on the National Research Center for Career and Technical Education and the National Dissemination Center for Career and Technical Education, on potential eligible applicants under the National Centers authority, and on the entities served by these Centers.

Additionally, we invite you to assist us in complying with the specific requirements of Executive Order 12866 and its overall requirement of reducing regulatory burden that might result from this proposed extension of project period and waivers. Please let us know of any further opportunities we should take to reduce potential costs or increase potential benefits while preserving the effective and efficient administration of the National Centers.

During and after the comment period, you may inspect all public comments about this proposed extension of project period and waivers in room 11138 or room 11040, Potomac Center Plaza, 550 12th Street, SW., Washington, DC, 7110 between the hours of 8 a.m. and 4 p.m., Eastern time, Monday through Friday of each week except Federal holidays.

Assistance to Individuals With Disabilities in Reviewing the Rulemaking Record

On request, we will supply an appropriate aid, such as a reader or print magnifier, to an individual with a disability who needs assistance to review the comments or other documents in the public rulemaking record for this proposed extension of project period and waivers. If you want to schedule an appointment for this type of aid, please contact the persons listed under FOR FURTHER INFORMATION CONTACT.

Background

On May 19, 1999, we published a notice in the Federal Register (64 FR 27410) inviting applications for new awards for FY 1999 for: (1) The National Research Center for Career and Technical Education, the purpose of which is to design and conduct, using a variety of approaches, research, development, and evaluation activities consistent with the purposes of the Perkins Act, and (2) the National Dissemination Center for Career and Technical Education, the purpose of which is to design and conduct, using a variety of approaches, national level dissemination and professional development activities consistent with the purposes of the Perkins Act. In the FY 1999 competition, we awarded a five-year cooperative agreement to the University of Minnesota for the National Research Center for Career and Technical Education and a five-year cooperative agreement to The Ohio State University for the National Dissemination Center for Career and Technical Education. These cooperative agreements are now in their fifth year, during which the Department typically would hold a competition for new National Centers. However, the Perkins Act, which includes authorization for the National Centers, expired at the end of FY 2003. Although the Perkins Act was automatically extended for one year under section 422 of the General Education Provisions Act (20 U.S.C. 1226a), with the uncertainties presented by the absence of authorizing legislation for the National Centers beyond 2004, we do not believe it would be advisable to hold a competition in 2004 for projects that would then operate for just one year, as grantees would not have time to establish and operate effective projects. Also, we are generally reluctant to announce a competition under which eligible entities would proceed through the application preparation and submission process while lacking critical information about the future of the program, and do not think that it would be in the public interest to do so in this case.

We believe, therefore, that it is preferable and in the best interest of the education community for us to review requests for continuation awards from the University of Minnesota (National Research Center for Career and Technical Education) and The Ohio State University (National Dissemination Center for Career and Technical Education) and extend the currently funded projects, rather than hold a new competition in 2004. We believe that holding a competition this year for new National Centers would create an unnecessary burden for potential grantees. Under the circumstances, authorizing current National Center grantees to request continuation awards would be a more appropriate and effective means for allowing these entities to continue their projects under this program and would also result in a more cost-effective use of Federal funds.

Education Department General Administrative Regulations Requirements

In order to provide for continuation awards after the fifth year of the National Centers' cooperative agreements, we must waive the requirements in: (1) 34 CFR 75.250, which provides that the Secretary may approve a project period of up to 60 months, and (2) 34 CFR 75.261(c)(2), which establishes the conditions for extending a project period, including prohibiting the extension of a program's project period if it involves the obligation of additional Federal funds.

The waivers as proposed would mean that: (1) The project period for the two National Centers grantees that received grants under the FY 1999 competition would be extended to December 31, 2005, instead of ending in December 2004, (2) continuation awards could be made for any additional year or years for which Congress appropriates funds under the existing statutory authority, (3) we would not announce a new competition in 2004 or make new awards in 2004, (4) the May 19, 1999, Federal Register notice (64 FR 27410) inviting applications for FY 1999 would govern the projects we propose to extend under this notice, and (5) the approved applications submitted by the two current grantees would govern the continuation awards.

Continuation of the Current Grantees

We would make continuation awards for the National Centers using cooperative agreements. Therefore, we would continue to expect the Department's interaction with the National Centers to be characterized by continuing and regular participation in the project, unusually close collaboration with the grantees, and intervention or direct operational involvement in the review and approval of project activities.

Decisions regarding annual continuation awards will be based on the program narratives, budgets and budget narratives, and Grant Performance Reports submitted by grantees, and on the regulations in 34 CFR 75.253.

Consistent with 34 CFR 75.253, we would award continuation grants if we determine, based on information provided by each grantee, that each grantee is making substantial progress performing approved National Center grant activities.

We do not interpret these waivers as exempting current grantees from the account closing provisions of Public Law 101-510, or as extending the availability of FY 2000 funds awarded to the grantees. As a result of Public Law 101-510, appropriations available for a limited period may be used for payments of valid obligations for only five years after the expiration of their period of availability for Federal obligation. After that time, the unexpended balance of those funds is canceled and returned to the Treasury Department and is unavailable for restoration for any purpose.

Regulatory Flexibility Act Certification

The Secretary certifies that the proposed extension of project period and waivers and the activities required to support additional years of funding would not have a significant economic impact on a substantial number of small entities.

The small entities that would be affected by this proposed extension of project period and waivers are the two FY 1999 grantees currently receiving Federal funds and the following entities that are eligible for an award under the National Centers authority:

(1) An institution of higher education.

(2) A public or private nonprofit organization or agency.

The proposed extension of project period and waivers would not have a significant economic impact on these entities because the proposed extension of project period and waivers and the activities required to support the additional years of funding would not impose excessive regulatory burdens or require unnecessary Federal supervision. The proposed extension of project period and waivers would impose minimal requirements to ensure the proper expenditure of program funds, including requirements that are standard to continuation awards.

Instructions for Requesting a Continuation Award

Generally, in order to receive a continuation grant, a grantee must submit an annual program narrative that describes the activities it intends to carry out during the year of the continuation award. The activities described must be consistent with, or be a logical extension of, the scope, goals, and objectives of the grantee's application approved under the FY 1999 National Research Centers competition and related cooperative agreements. A grantee must also submit a budget and budget narrative for each year for which it requests a continuation award. (34 CFR 75.253(c)(2)). A grantee should request a continuation award at least 60 days before its current grant expires. A grantee may request a continuation award for any year for which Congress appropriates funds under the current statutory authority.

Amount of New Awards Under Continuation Grant

The actual amount of any continuation award depends on factors such as: (1) The grantee's written statement describing how the funds made available under the continuation award will be used, (2) a cost analysis of the grantee's budget by the Department, and (3) whether the unobligated funds made available are needed to complete activities that are planned for completion in the prior budget period. (34 CFR 75.232 and 75.253(c)(2)(ii) and (3)).

Paperwork Reduction Act of 1995

This notice of proposed extension of project period and waivers does not contain any information collection requirements.

Intergovernmental Review

This program is not subject to Executive Order 12372 and the regulations in 34 CFR part 79.

Assessment of Educational Impact

The Secretary particularly requests comments on whether this proposed extension of project period and waivers would require transmission of information that any other agency or authority of the United States gathers or makes available.

Electronic Access to This Document

You may view this document, as well as all other Department of Education documents published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

(Catalog of Federal Domestic Assistance Number 84.051 National Research Centers.)

Program Authority: 20 U.S.C. 2324(c)(5) and (6)(A).

Dated: April 21, 2004.
Susan Sclafani,
Assistant Secretary for Vocational and Adult Education.

[FR Doc. 04-9549 Filed 4-26-04; 8:45 am]

BILLING CODE 4000-01-P